SOCIAL SECURITY ADMINISTRATION

[Docket No: SSA-2022-0026]

Agency Information Collection Activities: Proposed Request

The Social Security Administration (SSA) publishes a list of information collection packages requiring clearance by the Office of Management and Budget (OMB) in compliance with Public Law 104-13, the Paperwork Reduction Act of 1995, effective October 1, 1995. This notice includes a revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Comments: https://www.reginfo.gov/public/do/PRAMain. Submit your comments online referencing Docket ID Number [SSA-2022-0026].

(SSA), Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0026].

The information collection below is pending at SSA. SSA will submit it to OMB within 60 days from the date of this notice. To be sure we consider your comments, we must receive them no later than August 8, 2022. Individuals can obtain copies of the collection instrument by writing to the above email address.

Electronic Protective Filing Tool—20 CFR 404.630, and 20 CFR 416.340—416.345—0960-0825

The COVID-19 pandemic limited the public's access to Social Security Administration (SSA) Field Offices (FOs), requiring SSA to rapidly modernize and improve online services available to the public. During the time when SSA stopped accepting walk-in visitors, the agency noticed a sharp decrease in Supplemental Security Income (SSI) claims from underserved populations who have historically relied on in-office appointments and service. SSA uses the term “People facing barriers” to refer to these vulnerable populations, which include low-income individuals (especially those over age 65), the homeless, people with limited English proficiency, and disabled children.

Background

Historically, individuals contact SSA by phone, in person, or by mail to express interest in filing for benefits. Because same-day service to file an application is not always possible, and because some individuals prefer to make an appointment, SSA technicians use eLAS (OMB No. 0960-0822) to set up appointments and record the protective filing date for potential claimants. This process ensures that potential claimants do not miss out on possible benefits due to the lack of same-day service.

Protective filing is the precursor to filing an application for benefits. Protective filing refers to the date by which SSA receives an individual's intent to file for SSI payments, which SSA then uses as the application date provided the individual files an application within a specific amount of time after that date. Therefore, it is as if the application was filed on the day the individual contacted SSA to express interest in filing, which may result in additional payments to that individual.

SSA developed an online tool to allow internet users to request an appointment to file an application for benefits and to establish a protective filing date with SSA. The electronic protective filing tool allows individuals to submit information for the appointment request using a computing device, such as a personal computer or handheld (mobile) device instead of calling SSA by phone or visiting an FO. The tool is available on SSA's website to potential claimants, as well as those individuals assisting them.

Information the Electronic Protective Filing Tool Collects

After entering the ePFT from SSA's website, individuals begin on a welcome screen that displays a link to the Terms of Service. Next, a user sees the Privacy Act statement page. The user then provides a response about whether they are answering these questions about themselves or about another person. To do so, the system presents several options for individual to select from the categories of individuals who, under current regulations, can establish a protective filing date. The next screens ask for basic information about the individual who will be claiming benefits, or requesting SSI payments. Additionally, the tool collects the name, phone number, and email address (optional) of the person submitting the information, if that person is different than the person who will be claiming benefits or SSI payments.

Once the ePFT collects the data, it gives the individual the opportunity to review the information provided and electronically sign and submit the form. The ePFT then transmits the information into eLAS, documenting it as an ePFT submission, and establishes a protective filing date. If the individual provided an email address(es), the tool generates an email confirmation and sends it to the individual who will be filing for benefits, and, if applicable, to the individual submitting the appointment request on the claimant's behalf.

Subsequently, eLAS notifies SSA of the pending request, and an SSA technician uses the information submitted to schedule an appointment and send a notification of the date, time, and type of appointment to the individual who will be filing for benefits.

Members of the public who prefer not to use the online version of this IC, or who do not have access to the internet, may continue to visit an FO, call SSA's 800 Number (or an FO), or write to SSA to establish a protective filing date for an application for benefits.

The respondents are individuals with an intent to file for SSI (or third parties helping these individuals) and who want to request an appointment to do so.

Type of Request: Revision of an OMB-approved information collection.

Modality of completion | Number of respondents | Frequency of response | Average burden per response (minutes) | Estimated total annual burden (hours) | Average theoretical hourly cost amount (dollars) * | Total annual opportunity cost (dollars) **
Respondent Type 1 (ex: Potential Applicants) | 17,000 | 1 | 6 | 1,700 | * $28.01 | ** $47,617
Respondent Type 2 (ex: Professional Assistors) | 2,125 | 10 | 7 | 2,479 | * 25.94 | ** 64,305
Respondent Type 3 (ex: Attorney Representatives) | 2,125 | 2 | 7 | 496 | * 72.18 | ** 35,801
Totals | 21,250 |  |  | 4,675 |  | ** 147,723
* We based this figure on the average U.S. worker's hourly wages, as reported by Bureau of Labor Statistics data (https://www.bls.gov/oes/current/oes_nat.htm), on average wages for Community and Social Service Organizations as reported by Bureau of Labor Statistics data (https://www.bls.gov/oes/current/oes210000.htm), and on average lawyer's hourly salary as reported by Bureau of Labor Statistics data (https://www.bls.gov/oes/current/oes231011.htm).
** This figure does not represent actual costs that SSA is imposing on recipients of Social Security payments to complete this online tool; rather, these are theoretical opportunity costs for the additional time respondents will spend to complete the tool. There is no actual charge to respondents to complete the online tool.

Dated: June 2, 2022.
Naomi Sipple,
Reports Clearance Officer, Social Security Administration.

[FR Doc. 2022-12275 Filed 6-7-22; 8:45 am]

BILLING CODE 4191-02-P